ENVIRONMENTAL PROTECTION AGENCY

[EPA-HQ-OAR-2014-0548; FRL—9920-74-OEI]

Information Collection Request Submitted to OMB for Review and Approval; Comment Request; Reformulated Gasoline and Conventional Gasoline: Requirements for Refiners, Oxygenate Blenders, and Importers of Gasoline; Requirements for Parties in the Gasoline Distribution Network (Renewal)

AGENCY: Environmental Protection Agency (EPA).

ACTION: Notice.

SUMMARY: The Environmental Protection Agency (EPA) has submitted an information collection request (ICR), Reformulated Gasoline and Conventional Gasoline: Requirements for Refiners, Oxygenate Blenders, and Importers of Gasoline; Requirements for Parties in the Gasoline Distribution Network (Renewal) (EPA ICR No. 1591.26, OMB Control No. 2060-0277) to the Office of Management and Budget (OMB) for review and approval in accordance with the Paperwork Reduction Act (PRA) (44 U.S.C. 3501 et seq.). This is a proposed revision of the ICR, which is currently approved through 12/31/2014. Public comments were previously requested via the Federal Register (79 FR 52317) on September 3, 2014 during a 60 day comment period. This notice allows for an additional 30 days for public comment. A fuller description of the ICR is given below, including its estimated burden and cost to the public. An Agency may not conduct or sponsor and a person is not required to respond to a collection of information unless it displays a currently valid OMB control number.

DATES: Additional comments must be submitted on or before January 21, 2015.

ADDRESSES: Submit your comments, referencing Docket ID No. EPA-HQ-OAR-2014-0548, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jose Solar, Compliance Division, Office of Transportation and Air Quality, (Mail Code 6405A), Environmental Protection Agency, 1200 Pennsylvania Ave. NW., Washington, DC 20460; telephone number: 202-343-9027; fax number: 202-343-2801; email address: Solar.Jose@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Gasoline combustion is the major source of air pollution in most urban areas. In the 1990 amendments to the Clean Air Act (Act), section 211(k), Congress required that gasoline dispensed in nine areas with severe air quality problems, and areas that opt-in, be reformulated to reduce toxic and ozone-forming emissions. Congress also required that, in the process of producing reformulated gasoline (RFG), dirty components removed in the reformulation process not be “dumped” into the remainder of the country's gasoline, known as conventional gasoline (CG). The Environmental Protection Agency promulgated regulations at 40 CFR part 80, subpart D—Reformulated Gasoline, subpart E—Anti-Dumping, and subpart F—Attest Engagements, implementing the statutory requirements, which include standards for RFG (80.41) and CG (80.101). The regulations also contain reporting and recordkeeping requirements for the production, importation, transport and storage of gasoline, in order to demonstrate compliance and facilitate compliance and enforcement. This program excludes California, which has separate requirements for gasoline.

The United States has an annual gasoline consumption of about 133 billion gallons, of which about 30% is RFG. In 2013 EPA received reports from 255 refineries, 60 importer facilities/facility groups, 51 oxygenate blending facilities, 25 independent laboratory facilities, and the RFG Survey Association, Inc. under this program.

Section 211(k) of the Act requires the Administrator to promulgate regulations establishing requirements for RFG to be used in gasoline-fueled vehicles in the nine specified nonattainment areas, and opt-in areas. The Act specifically provides that recordkeeping, reporting, and sampling and testing requirements are among the tools EPA may use in enforcement of the provisions, and also provides that EPA must develop an enforceable scheme. Sections 114 and 208 of the Clean Air Act, 42 U.S.C. 7414 and 7542, authorize EPA to require recordkeeping and reporting regarding enforcement of the provisions of Title II of the Clean Air Act.

Information claimed as confidential is handled in accordance with EPA Freedom of Information Act regulations at 40 CFR 2. Most of the information submitted is claimed as such. Data submitted electronically are encrypted and housed in a secure area.

Form: Reformulated Gasoline and Conventional Gasoline reporting is now required to be completed electronically. The reporting is to be made through The EPA Fuels Programs Reporting Forms: http://www.epa.gov/otaq/fuels/reporting/index.htm.

Respondents/affected entities: Gasoline marketing-related industries, SIC codes: refiners (2911), importers (5172), terminals (5171), pipelines (4613), truckers and other distributors (4212), and retailers/wholesale purchaser-consumers (5541). NAICS codes: refiners (324110), pipelines (486910) and terminals (424710). Not all NAICS codes for the responsible reporting parties were found. These are, however, parties which are obligated to report: importers, truckers and other distributors and retailers/wholesale purchaser-consumers. Some refiners are importers but that is not always the case. Respondent's obligation to respond: Mandatory per 40 CFR part 80.

Estimated number of respondents: 4,283.

Frequency of response: Quarterly, Annually, on Occasion.

Total estimated burden: 127,246 hours (per year). Burden is defined at 5 CFR 1320.03(b)

Total estimated cost: $39,223,076 (per year), includes $24,713,032 in non-labor costs.

Changes in Estimates: Compared with the ICR currently approved by OMB, there is an increase in the total estimated burden. The increase from 127,041 hours to 127,246 hours is because additional regulations that were introduced through rule making.

Courtney Kerwin,
Acting Director, Collection Strategies Division.

[FR Doc. 2014-29791 Filed 12-19-14; 8:45 am]

BILLING CODE 6560-50-P